DEPARTMENT OF ENERGY

Federal Energy Regulatory Commission

[Docket No. RM19-12-000]

Revisions to the Filing Process for Commission Forms; Notice of eForms Updates

As provided for in the Order on Technical Conference issued on July 17, 2020 in the above-captioned proceeding,¹ notice is hereby given that, on February 17, 2022, the eXtensible Business Reporting Language (XBRL) taxonomies, validation rules, and rendering files needed to file the 2021 FERC Form Nos. 1, 1-F, 2, 2-A, 6, 60, and 714,² will be updated to Release 2.0.³

¹ Revisions to the Filing Process for Comm'n Forms, 172 FERC ¶ 61,059 (2020) (July 17, 2020 Order on Technical Conference).

² The Commission adopted the XBRL process for filing these forms in Order No. 859. Revisions to the Filing Process for Comm'n Forms, Order No. 859, 167 FERC ¶ 61,241 (2019). The third-quarter 2021 FERC Form Nos. 3-Q (electric), 3-Q (natural gas) and 6-Q (oil) were due by December 31, 2021 and needed to be filed using the Release 1.5 taxonomies, validation rules, and rendering files.

³ In the July 17, 2020 Order on Technical Conference, the Commission adopted the final XBRL taxonomies, protocols, implementation guide, and other supporting documents, and established the implementation schedule for filing the Commission Forms following a technical conference in this proceeding. The Commission also stated that technical updates, such as the updates referenced here, will not take effect until at least 60 days after issuance of a notice from the Office of the Secretary. July 17, 2020 Order on Technical Conference, 172 FERC ¶ 61,059 at P 26.

The draft updated taxonomies are currently available on the eForms web page (https://www.ferc.gov/filing-forms/eforms-refresh) and in the Yeti viewer at https://XBRLview.FERC.gov/. The most recent validation rules and rendering files are available in the Vendor Files Library at https://www.ferc.gov/vendor-files-library. Suggestions on the draft Release 2.0 taxonomies can be provided through the Commission's portal available at XBRLview.FERC.gov. The final Release 2.0 taxonomies will be made available for testing and the submission of official filings in the eCollection portal on February 17, 2022.

The 2021 FERC Form Nos. 1, 1-F, 2, 2-A, 6, 60, and 714 must be filed using the Release 2.0 taxonomies, validation rules, and rendering files. The 2021 FERC Form Nos. 1 and 1-F are due on April 18, 2022; the 2021 FERC Form Nos. 2 and 2-A are due on April 18, 2022; the 2021 FERC Form No. 6 is due on April 18, 2022; the 2021 FERC Form No. 60 is due on May 1, 2022; ⁴ and the 2021 FERC Form No. 714 is due on June 1, 2022.

⁴ FERC Form No. 60 must be filed by May 1 each year; however, because May 1, 2022 falls on a weekend, filers may submit the 2021 FERC Form No. 60 by May 2, 2022.

Dated: February 2, 2022.
Debbie-Anne A. Reese,
Deputy Secretary.

[FR Doc. 2022-02613 Filed 2-7-22; 8:45 am]

BILLING CODE 6717-01-P